DEPARTMENT OF AGRICULTURE

Forest Service

Lake Tahoe Basin Management Unit, California, South Tahoe Greenway Shared-Use Trail Project

AGENCY: Forest Service, USDA.

ACTION: Revised Notice of Intent (NOI) to prepare an environmental impact statement. This revised NOI expands upon the information provided in the previous NOI that was circulated by the Lake Tahoe Basin Management Unit for this project on November 29, 2006 (FR Vol. 71, No. 229, pages 69097-69099). New information includes a new alternative trail alignment developed in response to comments received during the November 2006 scoping period. Comments submitted to the Conservancy during the November 2006 scoping period will still be considered during the preparation of the environmental impact statement.

SUMMARY: The South Tahoe Greenway Shared-Use Trail is a California Tahoe Conservancy (Conservancy) proposed Class I or better trail that will link Meyers, California to Stateline, Nevada, generally following the former Caltrans U.S. Highway 50 Bypass Corridor. The trail will form the backbone of the bike trail network in South Lake Tahoe and link residential and lodging uses to jobs, schools, shopping, and recreation and community areas. The trail implements specific goals and policies of the Tahoe Regional Planning Agency (TRPA), the USDA Forest Service Lake Tahoe Basin Management Unit (USFS), and Conservancy to provide a non-motorized alternative transportation corridor through South Lake Tahoe. Approximately 0.5 mile of the trail corridor will cross National Forest System lands in approximately six locations.

DATES: Comments concerning the scope of the analysis must be received by April 30, 2008. The DEIS is expected by early 2009 and the Final Environmental Impact Statement (FEIS) is expected by summer 2009.

ADDRESSES: Send written comments to: Sue Rae Irelan, Program Coordinator, California Tahoe Conservancy, 1061 Third Street, South Lake Tahoe, CA 96150, e-mail: sirelan@tahoe.ca.gov.

FOR FURTHER INFORMATION CONTACT: Matt Dickinson, NEPA Coordinator, Lake Tahoe Basin Management Unit, 35 College Drive, South Lake Tahoe, CA 96150, mattdickinson@fsfed.us, (530) 543-2769; or Audrey McCombs, Program Manager, Tahoe Regional Planning Agency, P.O. Box 5310, 128 Market Street, Stateline, NV 89449, amccombs@trpa.org, (775) 589-5234.

SUPPLEMENTARY INFORMATION: Purpose and Need for Action: Complete an accessible and continuous shared-use trail from the existing Class I trail in Meyers, California to Stateline, Nevada that establishes a convenient non-auto transportation alternative and high quality recreational experience for residents and visitors. The Lake Tahoe South Shore roadway network suffers from excessive traffic congestion and the resulting degradation of air quality. The South Shore also lacks continuous Class I facilities for bicycles and pedestrians that provide high quality recreational opportunities. Regional planning documents (e.g., TRPA Regional Transportation Plan and Goals and Policies Plan) identify the important role that improvements to the south shore bicycle and pedestrian trail network plays in addressing these problems.

Proposed Action: The Conservancy is proposing to construct a 9.6-mile long shared-use trail that will provide residents and visitors with a non-motorized, alternative transportation corridor from Meyers, California (near the intersection of U.S. Highway 50 and Pioneer Trail) to Stateline, Nevada (near the proposed Van Sickle Bi-State Park). The South Tahoe Greenway Shared-Use Trail will generally follow the former Caltrans U.S. Highway 50 Bypass Corridor and will also utilize other publicly (including Forest Service) and privately owned lands.

Possible Alternatives: Potential alternatives include the following: (1) Use of the new El Dorado County Sawmill Trail (located west of U.S. Highway 50) from Meyers to the intersection of Meadowvale or Elks Club and U.S. Highway 50. This alternative would eliminate the portion of the South Tahoe Greenway Shared-Use Trail located east of U.S. Highway 50 between the intersection of Pioneer Trail and U.S. Highway 50 and the intersection of Meadowvale or Elks Club and U.S. Highway 50; (2) Use of Pioneer Trail right of way from U.S. Highway 50 to the approximate intersection with Golden Bear Trail, then National Forest System lands to reconnect to the Proposed South Tahoe Greenway Shared-Use Trail alignment near the intersection of Barbara Avenue and Martin Avenue in the Sierra Tract. This alternative would eliminate the portion of the South Tahoe Greenway Shared-Use Trail that travels through the Sunset Stables area, south and east of the Lake Tahoe Airport; (3) Use of alternative trail design measures (e.g., boardwalks, bridges, porous paving materials) and utilize maximum flexibility allowed by trail design standards and guidelines to reduce or eliminate effects to sensitive resources; (4) Use of Pioneer Trail right-of-way from its intersection with Ski Run Boulevard to the trail's terminus at the intersection of Pioneer Trail and U.S. Highway 50. This alternative would serve a dense population area, but eliminate the portion of the South Tahoe Greenway Shared-Use Trail located east of Pioneer Trail and Ski Run Boulevard; and (5) Maximize use of the former U.S. Highway 50 bypass corridor in the Sunset Stables project area located east of the Lake Tahoe Airport by locating the trail in the eastern-most forested area of the Sunset Stables project and at a higher elevation to allow for greater flexibility during future Conservancy design of the Sunset Stables river restoration project.

Lead, Joint Lead, And Cooperating Agencies: The Conservancy is planning to construct the South Tahoe Greenway Shared-Use Trail. The Conservancy, USFS, and TRPA are preparing a joint Environmental Impact Report (EIR)/Environmental Impact Statement (EIS) to inform agency decision makers about the potential environmental effects of the project. This joint document will serve as an EIR prepared by the Conservancy (lead CEQA agency) pursuant to the California Environmental Quality Act (CEQA); an EIS prepared by the USFS (lead federal agency) pursuant to the National Environmental Policy Act (NEPA); and an EIS prepared by TRPA pursuant to its regulations.

Responsible Official And Mailing Address: For the Forest Service Decision, Tern Marceron, Forest Supervisor, Lake Tahoe Basin Management Unit, 35 College Drive, South Lake Tahoe, CA 96150 is the responsible official.

Decision to be Made: The decision to be made is whether to construct a Class I trail on approximately 0.5 mile of National Forest System land in conjunction with construction of a Class I trail along the former U.S. Highway 50 Bypass right-of-way as described in the proposed action, to implement another combination of activities which meets the purpose and need for action, or to take no action at this time.

Scoping Process: Public scoping first began in November 2006. Scoping activities included the circulation of a joint NOP of a Draft EIR/EIS by the Conservancy and TRPA, the publication of a NOI to prepare an EIS in the Federal Register by the USFS (FR Vol. 71, No. 229, pages 69097-69099), and three public workshops/hearings held to take comment on a proposed South Tahoe Greenway Shared-Use Trail alignment. Several alternatives to portions of the proposed project were also presented. During scoping, the agencies received comments from regulatory agencies and the public that an alternative trail alignment should be developed and studied that would avoid the sensitive lands located east of the Lake Tahoe Airport in the vicinity of the Conservancy owned Sunset Stables and Upper Truckee River meadow. The alternative presented in the 2006 NOP, which avoided this area was strongly opposed by the private property owners across whose property the alternative would travel. As a result, the Conservancy and other lead agencies have identified a new alternative that would parallel Pioneer Trail in the southern portion of the South Tahoe Greenway corridor and avoid the Sunset Stables area. These efforts have resulted in the proposed project and alternatives described in this NOI document.

The publication of this Notice of Intent in the Federal Register re-initiates public scoping based on the addition of the project alternative described above. Notice of the preparation of the environmental documentation is also being published in a local newspaper (Tahoe Daily Tribune) and mailed to adjacent property owners. Public scoping opportunities with agency staff will be provided on the following dates: The TRPA will hold a public scoping hearing before their Hearings Officer on Thursday, April 17 beginning at 2 p.m. at the TRPA offices, 128 Market Street, Stateline, NV and the Conservancy will hold a public information workshop on Tuesday, April 22 from 6:30 to 8:30 p.m. at the Lake Tahoe Basin Management Unit Forest Supervisors Office, 35 College Drive, South Lake Tahoe, CA. The Forest Service will accept comments at these public meetings.

Preliminary Issues: During preparation of the Shared-Use Trail Preliminary Concept Plans, the following issues were identified: Disturbance of stream environment zone and the Upper Truckee River floodplain from new trail construction; potential water quality degradation from runoff and erosion from new trail creation; wildlife habitat environmental effects from direct habitat removal and potential habitat degradation from increased visitation to the project area; effects to sensitive vegetation communities and loss of “old growth” trees as defined by the TRPA Code of Ordinances; effects to scenic quality along designated scenic roadways (e.g., U.S. Highway 50 and Pioneer Trail); conflicts (e.g., public safety and traffic flow) with vehicular circulation in neighborhood areas and at roadway intersections; consistency with public safety plans and policies, such as the Lake Tahoe Airport Comprehensive Land Use Plan; consistency with the Lake Tahoe Basin Management Unit Forest Plan; and consistency with the goals of the Conservancy Sunset Stables Restoration and Resource Management Plan Project. Identification of Permits or Licenses Required: The TRPA, California Department of Fish and Game, California Department of Transportation, U.S. Army Corps of Engineers and California Regional Water Quality Control Board, Lahontan Region may issue project specific permits for trail segments within the Lake Tahoe Region.

Comment Requested: This notice of intent initiates the scoping process that guides the development of the environmental impact statement. The Forest Service would like to know the views of interested persons, organizations, and agencies as to the scope and content of the information to be included and analyzed in the DEIS. Agencies should comment on the elements of the environmental information that are relevant to their statutory responsibilities in connection with the proposed alternatives. Comments must be received by April 30, 2008. Person to Which Comments may be Mailed: Send written comments to: Sue Rae Irelan, Program Coordinator, California Tahoe Conservancy, 1061 Third Street, South Lake Tahoe, CA 96150, e-mail: sirelantahoe.ca.gov.

Early Notice of Importance of Public Participation in Subsequent Environmental Review: There will be additional opportunities to comment on this project in addition to this scoping period. When the DEIS is released there will be a 45 day comment period from the date the Environmental Protection Agency publishes the notice of availability of the DEIS in the Federal Register.

The Forest Service believes, at this early stage, it is important to give reviewers notice of several court rulings related to public participation in the enviromnental review process. First, reviewers of draft statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: March 24, 2008.
Terri Marceron,
Forest Supervisor, Lake Tahoe Basin Management Unit.

[FR Doc. E8-6502 Filed 3-31-08; 8:45 am]

BILLING CODE 3410-11-P